Title 3—

The President

Notice of May 6, 2015

Continuation of the National Emergency With Respect to Actions of the Government of Syria

On May 11, 2004, pursuant to his authority under the International Emergency Economic Powers Act, 50 U.S.C. 1701-1706, and the Syria Accountability and Lebanese Sovereignty Restoration Act of 2003, Public Law 108-175, the President issued Executive Order (E.O.) 13338, in which he declared a national emergency with respect to the actions of the Government of Syria. To deal with this national emergency, E.O. 13338 authorized the blocking of property of certain persons and prohibited the exportation or re-exportation of certain goods to Syria. The national emergency was modified in scope and relied upon for additional steps taken in E.O. 13399 of April 25, 2006, E.O. 13460 of February 13, 2008, E.O. 13572 of April 29, 2011, E.O. 13573 of May 18, 2011, E.O. 13582 of August 17, 2011, E.O. 13606 of April 22, 2012, and E.O. 13608 of May 1, 2012.

The President took these actions to deal with the unusual and extraordinary threat to the national security, foreign policy, and economy of the United States constituted by the actions of the Government of Syria in supporting terrorism, maintaining its then-existing occupation of Lebanon, pursuing weapons of mass destruction and missile programs, and undermining U.S. and international efforts with respect to the stabilization and reconstruction of Iraq.

The regime's brutality and repression of the Syrian people, who have been calling for freedom and a representative government, not only endangers the Syrian people themselves, but also is generating instability throughout the region. The Syrian regime's actions and policies, including with respect to chemical and biological weapons, supporting terrorist organizations, and obstructing the Lebanese government's ability to function effectively, continue to pose an unusual and extraordinary threat to the national security, foreign policy, and economy of the United States. As a result, the national emergency declared on May 11, 2004, and the measures to deal with that emergency adopted on that date in E.O. 13338; on April 25, 2006, in E.O. 13399; on February 13, 2008, in E.O. 13460; on April 29, 2011, in E.O. 13572; on May 18, 2011, in E.O. 13573; on August 17, 2011, in E.O. 13582; on April 22, 2012, in E.O. 13606; and on May 1, 2012, in E.O. 13608; must continue in effect beyond May 11, 2015. Therefore, in accordance with section 202(d) of the National Emergencies Act, 50 U.S.C. 1622(d), I am continuing for 1 year the national emergency declared with respect to the actions of the Government of Syria.

In addition, the United States condemns the Asad regime's use of brutal violence and human rights abuses and calls on the Asad regime to stop its violence against the Syrian people and allow a political transition in Syria that will forge a credible path to a future of greater freedom, democracy, opportunity, and justice.

The United States will consider changes in the composition, policies, and actions of the Government of Syria in determining whether to continue or terminate this national emergency in the future.

This notice shall be published in the Federal Register and transmitted to the Congress.

THE WHITE HOUSE,

May 6, 2015.

[FR Doc. 2015-11385

Filed 5-7-15; 11:15 am]

Billing code 3295-F5